DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2009, there were five applications approved. Additionally, 21 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Counties of Lackawanna and Luzerne, Avoca, Pennsylvania.

Application Number: 09-06-U-00-AVP.

Application Type: Use PFC revenue.

PFC Level: $4.50.

Total PFC Revenue Approved for Use in this Decision: $868,293.

Charge Effective Date: April 1, 2011.

Estimated Charge Expiration Date: August 1, 2017.

Class of Air Carriers Not Required To Collect PFCs:

No change from previous decision.

Brief Description of Project Approved for Use: Rehabilitate general aviation and old terminal apron.

Decision Date: August 2, 2009.

For Further Information Contact: Lori Ledebohm, Harrisburg Airports District Office, (717) 730-2835.

Public Agency: Jackson Hole Airport Board, Jackson, Wyoming.

Application Number: 09-12-C-00-JAC.

Application Type: Impose and use a PFC.

PFC Level: $4.50.

Total PFC Revenue Approved in This Decision: $12,896,731.

Earliest Charge Effective Date: September 1, 2012.

Estimated Charge Expiration Date: June 1, 2026.

Class of Air Carriers Not Required To Collect PFCs: None.

Brief Description of Projects Approved for Collection and Use:

Terminal rehabilitation and expansion.

Master plan update.

PFC application development cost.

Decision Date: August 3, 2009.

For Further Information Contact: Chris Schaffer, Denver Airports District Office, (303) 342-1258.

Public Agency: County of Emmet, Peliston, Michigan.

Application Number: 09-11-C-00-PLN.

Application Type: Impose and use a PFC.

Total PFC Revenue Approved in This Decision: $135,224.

PFC Level: $4.50.

Earliest Charge Effective Date: July 1, 2013.

Estimated Charge Expiration Date: October 1, 2014.

Class of Air Carriers Not Required To Collect PFCs:

Non-scheduled/on-demand air taxi operators filing FAA Form 1800-31.

Determination: Approved. Based on information contained in the public agency's application, the FAA has determined that the proposed class accounts for less than 1 percent of the total annual enplanements at Pellston Regional Airport.

Brief Description of Projects Approved for Collection and Use:

Property acquisition (Brill property).

PFC administration.

Acquire friction tester and pickup truck.

Airfield pavement marking.

Decision Date: August 10, 2009.

For Further Information Contact: Irene Porter, Detroit Airports District Office, (734) 229-2915.

Public Agency: Port of Bellingham, Bellingham, Washington.

Application Number: 09-10-U-00-BLI.

Application Type: Use PFC revenue.

PFC Level: $4.50.

Total PFC Revenue Approved for Use in This Decision: $875,000.

Charge Effective Date: July 1, 2008.

Estimated Charge Expiration Date: July 1, 2010.

Class of Air Carriers Not Required To Collect PFCs:

No change from previous decision.

Brief Description of Project Approved for Use:

Plans and specifications for terminal rehabilitation.

Decision Date: August 18, 2009.

For Further Information Contact: Trang Tran, Seattle Airports District Office, (425) 227-1662.

Public Agency: City of Kearney, Nebraska.

Application Number: 09-03-C-00-EAR.

Application Type: Impose and use a PFC.

Total PFC Revenue Approved in This Decision: $77,707.

PFC Level: $4.50.

Earliest Charge Effective Date: October 1, 2009.

Estimated Charge Expiration Date: July 1, 2011.

Class of Air Carriers Not Required To Collect PFCs: None.

Brief Description of Projects Approved for Collection and Use:

Aviation easement acquisition.

Master plan and airport layout plan update.

Runway and taxiway pavement maintenance.

Snow plow.

Terminal parking lot resurfacing.

Decision Date: August 21, 2009.

For Further Information Contact: Nicoletta Oliver, Central Region Airports Division, (816) 329-2642.

Amendments to PFC Approvals
Amendment No., city, state | Amendment approved date | Original approved net PFC revenue | Amended approved net PFC revenue | Original estimated charge exp. date | Amended estimated charge exp. date
05-10-C-06-MCO, Orlando, FL | 07/22/09 | $509,842,236 | $765,494,011 | 12/01/00 | 04/01/20
98-02-C-02-PWM, Portland, ME | 07/22/09 | 8,485,479 | 6,986,461 | 02/01/04 | 02/01/04
93-02-I-05-BDL, Windsor Locks, CT | 07/24/09 | 28,115,880 | 8,607,831 | 11/01/98 | 12/01/95
94-03-U-01-BDL, Windsor Locks, CT | 07/24/09 | NA | NA | 11/01/98 | 12/01/95
96-05-U-01-BDL, Windsor Locks, CT | 07/24/09 | NA | NA | 11/01/98 | 12/01/95
03-09-C-01-MRY, Monterey, CA | 07/27/09 | 688,938 | 681,377 | 06/01/04 | 06/01/04
04-10-C-01-MRY, Monterey, CA | 07/27/09 | 344,701 | 340,364 | 03/01/05 | 03/01/05
05-11-C-01-MRY, Monterey, CA | 07/27/09 | 1,166,290 | 1,133,416 | 05/01/07 | 04/01/06
06-12-C-02-MRY, Monterey, CA | 07/27/09 | 2,153,658 | 1,886,919 | 08/01/08 | 08/01/08
01-04-C-02-ISP, Islip, NY | 08/03/09 | 444,546 | 189,654 | 08/01/05 | 06/01/05
03-05-C-01-ISP, Islip, NY | 08/03/09 | 493,001 | 457,810 | 10/01/05 | 08/01/05
08-05-C-01-AVP, Avoca, PA | 08/05/09 | 6,888,604 | 6,770,104 | 08/01/17 | 08/01/17
*00-02-C-01-PDT, Pendleton, OR | 08/11/09 | 303,739 | 303,739 | 01/01/12 | 03/01/15
08-08-C-01-EAT, East Wenatchee, WA | 08/11/09 | 365,332 | 366,393 | 02/01/10 | 02/01/10
98-04-C-06-SEA, Seattle, WA | 08/12/09 | 797,275,000 | 963,656,707 | 06/01/14 | 09/01/18
01-04-C-02-RNO, Reno, NV | 08/14/09 | 6,764,380 | 7,258,689 | 06/01/02 | 06/01/02
03-07-C-03-RNO, Reno, NV | 08/14/09 | 5,556,400 | 1,852,373 | 12/01/04 | 12/01/04
99-04-C-02-OTH, North Bend, OR | 08/18/09 | 164,500 | 119,853 | 05/01/03 | 05/01/03
01-05-C-04-OTH, North Bend, OR | 08/18/09 | 473,096 | 425,008 | 07/01/06 | 07/01/06
03-06-C-01-OTH, North Bend, OR | 08/18/09 | 287,000 | 282,373 | 02/01/09 | 11/01/07
07-06-C-02-BUF, Buffalo, NY | 08/25/09 | 75,389,056 | 77,745,807 | 10/01/09 | 11/01/12

Notes: The amendment denoted by an asterisk (*) includes a change to the PEG level charged from $4.50 per enplaned passenger to $3.00 per enplaned passenger. For Pendleton, OR this change is effective on October 1, 2009.

Issued in Washington, DC, on Dec 02 2009.
Joe Hebert,
Manager, Financial Analysis and Passenger Facility Charge Branch.

[FR Doc. E9-29061 Filed 12-7-09; 8:45 am]

BILLING CODE 4910-13-M